DEPARTMENT OF TRANSPORTATION

Federal Highway Administration

[Docket No. FHWA-2008-0022]

Agency Information Collection Activities: Notice of Request for Extension of Currently Approved Information Collection

AGENCY: Federal Highway Administration (FHWA), DOT.

ACTION: Notice of request for extension of currently approved information collection.

SUMMARY: The FHWA invites public comments about our intention to request the Office of Management and Budget's (OMB) approval for renewal of an existing information collection that is summarized below under SUPPLEMENTARY INFORMATION. We are required to publish this notice in the Federal Register by the Paperwork Reduction Act of 1995.

DATES: Please submit comments by April 28, 2008.

ADDRESSES: You may submit comments identified by DOT DMS Docket Number FHWA-2008-0022 by any of the following methods:

Web Site: http://dms.dot.gov. Follow the instructions for submitting comments on the DOT electronic docket site.

Fax: 1-202-493-2251.

Mail: Docket Management Facility, U.S. Department of Transportation, 1200 New Jersey Avenue, SE., Washington, DC 20590.

Hand Delivery: U.S. Department of Transportation, 1200 New Jersey Avenue, SE., Washington, DC 20590, between 9 a.m. and 5 p.m., Monday through Friday, except Federal holidays.

Docket: For access to the docket to read background documents or comments received, go to http://dms.dot.gov at any time or to U.S. Department of Transportation, 1200 New Jersey Avenue, SE., Washington, DC 20590, between 9 a.m. and 5 p.m., Monday through Friday, except Federal holidays.

FOR FURTHER INFORMATION CONTACT: James Lunetta, 703-235-0262, Office of Professional and Corporate Development, Federal Highway Administration, Department of Transportation, 4600 North Fairfax Drive, Suite 800, Arlington, VA 22203. Office hours are from 7:30 a.m. to 5 p.m., Monday through Friday, except Federal holidays.

SUPPLEMENTARY INFORMATION: Title: Customer Satisfaction Surveys.

OMB Control No.: 2125-0590.

Background: Executive Order 12862, “Setting Customer Service Standards” requires Federal agencies provide the highest quality service to our customers by identifying them and determining what they think about our services and products. The surveys covered in this clearance will provide the FHWA a means to gather this data directly from our customers. The information obtained from the surveys will be used to assist in evaluating service delivery and processes. The responses to the surveys will be voluntary and will not involve information that is required by regulations. There will be no direct costs to the respondents other than their time. The FHWA plans to provide an electronic means for responding to the majority of the surveys via the World Wide Web.

Respondents: State and local governments, highway industry organizations, and the general public.

Estimated Average Annual Burden: The burden hours per response will vary with each survey; however, we estimate an average burden of 15 minutes for each survey. Estimated Total Annual Burden Hours: We estimate that FHWA will survey approximately 21,000 respondents annually during the next 3 years. Therefore, the estimated total annual burden is 5,200 hours.

Public Comments Invited: You are asked to comment on any aspect of this information collection, including: (1) Whether the proposed collection is necessary for the FHWA's performance; (2) the accuracy of the estimated burden; (3) ways for the FHWA to enhance the quality, usefulness, and clarity of the collected information; and (4) ways the burden could be minimized, including the use of computer technology, without reducing the quality of the collected information. The agency will summarize and/or include your comments in the request for OMB's clearance of this information collection.

Authority: The Paperwork Reduction Act of 1995; 44 U.S.C. Chapter 35, as amended; and 49 CFR 1.48.

Issued On: February 21, 2008.
Judith Kane,
Information Services Team Leader.

[FR Doc. E8-3673 Filed 2-26-08; 8:45 am]

BILLING CODE 4910-22-P